Title 3—

The President

Proclamation 7456 of July 21, 2001

Parents' Day 2001

By the President of the United States of America

A Proclamation

Being a parent is the most important job in the world. As we hold a newborn in our arms or embrace an older adopted child, the promise we make in our hearts to love, protect, and nurture our children stays with us and with them forever. We are eternally linked to the children whom we are blessed to parent and to the generations before us who helped shape our lives.

Both mothers and fathers play a vital role in giving children the best possible start in life. As parents, we provide our children with the love and support they need to grow up to be caring individuals and responsible citizens. The care we express and the values we instill help our children achieve their greatest potential and ultimately will determine the future of our Nation.

Unfortunately, children who lack a strong parental presence in their lives can suffer over both the short and the long term. Study after study has demonstrated that children who grow up without both parents in their home are more likely to end up in poverty, drop out of school, become addicted to drugs, have a child out of wedlock, or go to prison. Single-parented children who avoid these unfortunate outcomes will nevertheless miss out on the balance, unity, and stability that a two-parent family can bring.

Recognizing that strong families make a strong America, I have committed my Administration to help parents do better by encouraging the formation and maintenance of loving families. We have proposed several major initiatives designed to promote responsible fatherhood, strengthen families, and make adoption easier and more affordable, so that every child has a better chance of living in a stable and loving home. We also have achieved widespread support for the historic reform of our public education system that will significantly improve our schools. This improvement is founded on the core principles of my education reform agenda, which include: accountability; flexibility; local control; and more choices for parents.

Government bears an important responsibility to provide excellent schools and educational programs that leave no child behind; but Government cannot replace the love and nurturing of committed parents that are essential for a child's well-being. Many community organizations, centers of faith, and schools offer services and programs to help parents improve their child-rearing skills. As we observe Parents' Day, I encourage all Americans to join me in honoring the millions of mothers and fathers, biological and adoptive, foster parents, and stepparents, whose selfless love and hard-working efforts are building better lives for their children and our Nation.

NOW, THEREFORE, I, GEORGE W. BUSH, President of the United States of America, by virtue of the authority vested in me by the Constitution and laws of the United States and consistent with Public Law 103-362, do hereby proclaim Sunday, July 22, 2001, as Parents' Day. I urge all Americans to express their love, respect, support, and appreciation to their parents, and I call upon citizens to observe this day with appropriate programs, ceremonies, and activities.

IN WITNESS WHEREOF, I have hereunto set my hand this twenty-first day of July, in the year of our Lord two thousand one, and of the Independence of the United States of America the two hundred and twenty-sixth.

B

[FR Doc. 01-18734

Filed 7-24-01; 8:45 am]

Billing code 3195-01-P